FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 962. Interested parties may submit comments on an agreement to the Secretary, Federal Maritime Commission, Washington, DC 20573, within 10 days of the date this notice appears in the Federal Register.

Agreement No.: 011737.

Title: The MCA Agreement.

Parties: Crowley Liner Services, Inc., Inchcape Shipping Services, Inc., Linea Maritima Mexicana S.A. De C.V., Lykes Lines Limited, LLC, Tecmarine Lines, Inc., and Transportacion Maritima Grancolombiana, S.A.

Synopsis: The proposed agreement authorizes the parties to discuss and share credit and collection information. The agreement does not permit the parties to act concertedly, or establish common credit rules, credit policy or terms, rates or agreements on conditions under which credit is granted or not granted.

By Order of the Federal Maritime Commission.
Dated: December 8, 2000.
Bryant L. VanBrakle,
Secretary.

[FR Doc. 00-31763 Filed 12-13-00; 8:45 am]

BILLING CODE 6730-01-P